DEPARTMENT OF ENERGY

Federal Energy Regulatory Commission

[Project No. 6972-033]

Ampersand Hollow Dam Hydro LLC; Notice of Intent To File License Application, Filing of Pre-Application Document, and Approving Use of the Traditional Licensing Process

a. Type of Application: Notice of Intent to File License Application and Request to Use the Traditional Licensing Process.

b. Project No.: 6972-033.

c. Date filed: April 29, 2021.

d. Submitted by: Ampersand Hollow Dam Hydro LLC (Ampersand Hydro).

e. Name of Project: Hollow Dam Hydroelectric Project.

f. Location: Located on the West Branch Oswegatchie River in the town of Fowler, St. Lawrence County, New York. The project does not occupy any federal land.

g. Filed Pursuant to: 18 CFR 5.3 of the Commission's regulations.

h. Potential Applicant Contact: Mr. Sayad Moudachirou, Licensing Manager, Ampersand Hollow Dam Hydro LLC, 717 Atlantic Avenue, Boston, MA 02111, Phone: (617) 933-7200, Email: sayad@ampersandenergy.com.

i. FERC Contact: John Stokely, Phone: (202) 502-8534, Email: john.stokely@ferc.gov.

j. Ampersand Hydro filed its request to use the Traditional Licensing Process on April 29, 2021. Ampersand Hydro provided public notice of its request on May 7, 2021. In a letter dated June 25, 2021, the Director of the Division of Hydropower Licensing approved Ampersand Hydro's request to use the Traditional Licensing Process.

k. With this notice, we are initiating informal consultation with the U.S. Fish and Wildlife Service and/or NOAA Fisheries under section 7 of the Endangered Species Act and the joint agency regulations thereunder at 50 CFR, part 402; and NOAA Fisheries under section 305(b) of the Magnuson-Stevens Fishery Conservation and Management Act and implementing regulations at 50 CFR 600.920. We are also initiating consultation with the New York State Historic Preservation Officer, as required by section 106, National Historic Preservation Act, and the implementing regulations of the Advisory Council on Historic Preservation at 36 CFR 800.2.

l. The applicant filed a Pre-Application Document (PAD; including a proposed process plan and schedule) with the Commission, pursuant to 18 CFR 5.6 of the Commission's regulations.

m. A copy of the PAD may be viewed on the Commission's website (http://www.ferc.gov), using the “eLibrary” link. Enter the docket number, excluding the last three digits in the docket number field, to access the document. At this time, the Commission has suspended access to the Commission's Public Reference Room, due to the proclamation declaring a National Emergency concerning the Novel Coronavirus Disease (COVID-19), issued by the President on March 13, 2020. For assistance, contact FERC Online Support at FERCOnlineSupport@ferc.gov, (866) 208 3676 (toll free), or (202) 502-8659 (TTY).

n. The licensee states its unequivocal intent to submit an application for a subsequent license for Project No. 6972. Pursuant to 18 CFR 16.20 each application for a subsequent license and any competing license applications must be filed with the Commission at least 24 months prior to the expiration of the existing license. All applications for license for this project must be filed by April 30, 2024.

o. Register online at http://www.ferc.gov/docs-filing/esubscription.asp to be notified via email of new filing and issuances related to this or other pending projects. For assistance, contact FERC Online Support.

Dated: June 25, 2021.
Kimberly D. Bose,
Secretary.

[FR Doc. 2021-14064 Filed 6-30-21; 8:45 am]

BILLING CODE 6717-01-P